COMMODITY FUTURES TRADING COMMISSION

Request for Nominations for the Global Market Structure Subcommittee, Digital Asset Markets Subcommittee, and Technical Issues Subcommittee Under the Global Markets Advisory Committee

AGENCY: Commodity Futures Trading Commission.

ACTION: Notice.

SUMMARY: The Commodity Futures Trading Commission (CFTC or Commission) is requesting nominations for membership on the Global Market Structure Subcommittee, the Digital Asset Markets Subcommittee, and/or the Technical Issues Subcommittee (together, Subcommittees) under the Global Markets Advisory Committee (GMAC). The GMAC is a discretionary advisory committee established by the Commission in accordance with the Federal Advisory Committee Act.

DATES: The deadline for the submission of nominations is March 14, 2023.

ADDRESSES: Nominations should be emailed to GMAC_Submissions@cftc.gov or sent by hand delivery or courier to Gates S. Hurand, GMAC Designated Federal Officer and Chief Counsel to Commissioner Caroline D. Pham, Commodity Futures Trading Commission, Three Lafayette Centre, 1155 21st Street NW, Washington, DC 20581. Please use the title “GMAC Global Market Structure Subcommittee,” “GMAC Digital Asset Markets Subcommittee,” and/or “the GMAC Technical Issues Subcommittee,” as appropriate, for any nominations you submit.

FOR FURTHER INFORMATION CONTACT: Gates S. Hurand, GMAC Designated Federal Officer and Chief Counsel to Commissioner Caroline D. Pham at (202) 418-5000 or email: GMAC_submissions@cftc.gov.

SUPPLEMENTARY INFORMATION: The purpose of the proposed Subcommittees would be to provide report(s) and/or recommendations to the GMAC that will identify and examine key issues that affect the integrity and competitiveness of U.S. markets and U.S. firms engaged in global business, including the regulatory challenges of a global marketplace that reflects the increasing interconnectedness of markets and the multinational nature of business, including for derivatives markets; and to assess and inform international standards through engagement with international policymakers and authorities in other jurisdictions, with a focus on global market structure, digital asset markets, and technical issues, respectively. The GMAC, in turn, would consider and discuss the report(s) and/or recommendations of each Subcommittee. Topics and issues the Subcommittees may consider include, but are not limited to, the following:

• Global Market Structure Subcommittee. Identifying and assessing key issues and policy proposals with an impact on global markets, including global market structure and access to markets.

• Digital Asset Markets Subcommittee. Identifying and assessing key issues and policy proposals with respect to digital asset markets, including digital finance and tokenization of assets, non-financial activities and Web3, and blockchain technology.

• Technical Issues Subcommittee. Identifying and assessing key issues and policy proposals with respect to technical requirements that apply to global markets, including financial market infrastructures, market participants, end-users, and service providers.

Each of the Subcommittees will provide its report(s) and/or recommendations directly to the GMAC and will not provide report(s) and/or recommendations directly to the Commission. No Subcommittee has the authority to make decisions on behalf of the GMAC, and no determination of fact or policy will be made by any of the Subcommittees on behalf of the Commission.

The members of each of the Subcommittees will generally serve as representatives and provide advice reflecting the views of stakeholder organizations and entities throughout the derivatives and financial markets. Each of the Subcommittees may also include special government employees and regular government employees when doing so furthers its purpose. It is anticipated that each of the Subcommittees will hold at least three in-person or telephonic meetings per year. Members of each of the Subcommittees serve at the pleasure of the Commission, and will be appointed to serve two-year terms. Members of each of the Subcommittees do not receive compensation or honoraria for their services, and they are not reimbursed for travel and per diem expenses.

Members of each of the Subcommittees will include individuals who are members of the GMAC and/or other individuals. For individuals who are not serving on the GMAC currently, the Commission seeks nominations of individuals from a wide range of perspectives, including from industry, academia, the government, and public interest groups. To advise the GMAC effectively, members of each Subcommittee must have a high level of expertise and experience with the subject matter of the Subcommittee. To the extent practicable, the Commission will strive to select members reflecting wide ethnic, racial, gender, and age representation.

The Commission invites the submission of nominations for membership in each of the Subcommittees. Each nomination submission should include the proposed member's name, title, organization affiliation and address, email address and telephone number, as well as information that supports the individual's qualifications to serve on the relevant Subcommittee. The submission should also include the name, email address and telephone number of the person nominating the proposed Subcommittee member. Self-nominations are acceptable.

Submission of a nomination is not a guarantee of selection as a member of a subcommittee. As noted in the GMAC's Membership Balance Plan, the Commission seeks to ensure that the membership of a Subcommittee is balanced relative to the particular issues addressed by the Subcommittee in question. The Commission may identify members for the Subcommittees based on a variety of methods. Such methods may include public requests for nominations for membership; recommendations from existing advisory committee members; consultations with knowledgeable persons outside the CFTC (industry, consumer groups, other state or federal government agencies, academia, etc.); requests to be represented received from individuals and organizations; and Commissioners' and CFTC staff's professional knowledge of those experienced in the global markets.

The office of the Commissioner primarily responsible for the GMAC and the Subcommittees plays a primary, but not exclusive, role in this process and makes recommendations regarding membership to the Commission. The Commission, by vote, authorizes members to serve on each of the GMAC Subcommittees.

(Authority: 5 U.S.C. 1001 et seq.)

Dated: February 23, 2023.
Robert Sidman,
Deputy Secretary of the Commission.

[FR Doc. 2023-04048 Filed 2-27-23; 8:45 am]

BILLING CODE 6351-01-P